POSTAL SERVICE

39 CFR Part 447

Rules of Conduct for Postal Employees

AGENCY: Postal Service.

ACTION: Final rule.

SUMMARY: The Postal Service is revising its rules concerning employee conduct to specify the circumstances under which a nonbargaining employee may consume intoxicating beverages at an Officer Approved Event or a Postmaster General Approved event. This revision is intended to ensure that the relevant rules conform to the Postal Service's existing practices regarding this matter.

DATES: Effective date: August 21, 2017.

FOR FURTHER INFORMATION CONTACT: David B. Ellis at (202) 268-2981, or david.b.ellis@usps.gov.

SUPPLEMENTARY INFORMATION: The Postal Service has determined that it is necessary to revise and update its regulations concerning employee conduct to reflect current practices concerning the possession and consumption of intoxicating beverages at officially-approved Postal Service events. The current rules, set forth at 39 CFR 447.21(e), are couched in general terms that fail to provide sufficient guidance to managers or employees.

As revised, the general prohibition against consuming intoxicating beverages on duty is replaced with a rule that intoxicating beverages may be consumed by non-bargaining employees while on duty only if consumption occurs at certain events known as Officer Approved Events and Postmaster General Approved Events. This change was made because the current regulations' general prohibition against on-duty consumption is not in accordance with Postal Service practice. The Postal Service permits the consumption of intoxicating beverages by nonbargaining employees at business meetings, sales meetings, and recognition events. At such events, Postal Service nonbargaining employees may be on duty because the event occurs during their normal work hours and their attendance is authorized or required, or because they are hosting or performing Postal Service responsibilities at a recognition event, meeting with a customer, or otherwise conducting Postal Service business, whether or not the event occurs during the nonbargaining employee's normal work hours. Such events often involve the serving of food and beverages, whether during a meal or as refreshments at the event.

The Postal Service, however, wishes to restrict the consumption of intoxicating beverages by nonbargaining employees at Postal Service events to appropriate situations for which executive approval has been obtained, whether or not the employees are on duty. As a result, any event where intoxicating beverages are served to Postal Service nonbargaining employees, whether they are on duty or off duty, must meet the requirements for an Officer Approved Event or a Postmaster General Approved Event. Among other things, this means that the consumption of intoxicating beverages at the event would require the express approval of a Postal Service Officer or the Postmaster General.

The new regulations will not change the existing prohibitions against beginning work or returning to duty intoxicated. They will, however, impose a specific prohibition against becoming intoxicated at Officer Approved Events or Postmaster General Approved Events.

The new regulations also clarify the conditions under which intoxicating beverages may be possessed or consumed on Postal Service premises. First, beer and wine would be permitted on Postal Service premises if approved by a Postal Service Officer in connection with an Officer Approved Event. Under current regulations, only the Postmaster General may approve the consumption of intoxicating beverages on Postal Service Premises. Second, intoxicating beverages other than beer and wine would never be permitted on Postal Service premises, regardless of whether the event is an Officer Approved Event or a Postmaster General Approved Event. Under current regulations, the Postmaster General may approve the consumption of intoxicating beverages other than beer and wine on Postal Service premises.

List of Subjects in 39 CFR Part 447

Conflict of interests, Employee conduct, Government employees.

For the reasons stated in the preamble, the Postal Service amends 39 CFR part 447 as set forth below:

PART 447—RULES OF CONDUCT FOR POSTAL EMPLOYEES

1. The authority citation for part 447 continues to read as follows:

Authority: 39 U.S.C. 401.

Subpart B—Employee Conduct

2. Revise § 447.21(e) to read as follows:

§ 447.21 Prohibited conduct.

* * * * *

(e)(1) Except as provided in this paragraph, employees must not drink beer, wine, or other intoxicating beverages while on duty; begin work or return to duty intoxicated; or drink intoxicating beverages in a public place while in uniform. Employees found to be violating this policy may be subject to disciplinary action.

(2) A nonbargaining employee may consume beer or wine at an Officer Approved Event. An Officer Approved Event means: A meeting of Postal Service employees convened by management, such as a working meal, an employee recognition event, or an employee appreciation event; or an event whose primary purpose is to interact with external individuals or entities, such as an industry conference, a sales meeting, or a supplier meeting; that in all cases is either attended by an Officer of the Postal Service who personally decides that the consumption of beer and wine by employees is appropriate, or with respect to which an Officer of the Postal Service has granted specific, written, and advance approval for the consumption of beer and wine by employees.

(3) A nonbargaining employee may consume beer, wine, or other intoxicating beverages at a Postmaster General Approved Event. A Postmaster General Approved Event means any Postal Service-related event with respect to which the Postmaster General personally approves the consumption of beer, wine, or other intoxicating beverages.

(4) No employee may become intoxicated while at an Officer Approved Event or a Postmaster General Approved Event. Except in connection with an Officer Approved Event or a Postmaster General Approved Event occurring at a Postal Service facility or premises, no employee shall have or bring any container of beer or wine into any Postal Service facility or premises, whether the container has been opened or not. Intoxicating beverages other than beer and wine may never be brought into any Postal Service facility or premises under any circumstances.

* * * * *

Stanley F. Mires,
Attorney, Federal Compliance.

[FR Doc. 2017-15311 Filed 7-20-17; 8:45 am]

BILLING CODE 7710-12-P